DEPARTMENT OF TRANSPORTATION

Federal Aviation Administration

Eleventh Meeting: Joint RTCA Special Committee 213: EUROCAE WG-79: Enhanced Flight Vision Systems/Synthetic Vision Systems (EFVS/SVS)

AGENCY: Federal Aviation Administration (FAA), Department of Transportation (DOT).

ACTION: Notice of Joint RTCA Special Committee 213: EUROCAE WG-79: Enhanced Flight Vision Systems/Synthetic Vision Systems (EFVS/SVS).

SUMMARY: The FAA is issuing this notice to advise the public of a meeting of Joint RTCA Special Committee 213: EUROCAE WG-79: Enhanced Flight Vision Systems/Synthetic Vision Systems (EFVS/SVS).

DATES: The meeting will be held September 21-23, 2010 from 8:30 a.m.—5 p.m. (0830-1700).

ADDRESSES: The meeting will be held at the London Gatwick Airport, UK CAA Aviation House, 3rd floor, Conf Room #1, Gatwick Airport South West Sussex, RH6 0YR, United Kingdom, Phone: +44 (0) 1293 768821.

Logistics: If attending, please inform Terry Neale no later than 16 August of name and company. (If driving, you will need your car registration).

Objectives: Plenary approval DO-315B (MASPS for SVS approach). Discussion on DO-315C performance objectives.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for a Joint RTCA Special Committee 213: EUROCAE WG-79: Enhanced Flight Vision Systems/Synthetic Vision Systems (EFVS/SVS) meeting. The agenda will include:

Tuesday, 21 September

Morning

• Plenary discussion (sign-in at 0830).

• Introductions and administrative items.

• Review and approve minutes from last full plenary meeting.

Afternoon

• Work Group 1 (SVS) Discussion: Resolve DO-315B FRAC comment list.

• Work Group 2 (EFVS) Discussion: Begin discussion of DO-315C performance objectives for landing in reported visibilities < 1000 ft RVR.

Wednesday, 22 September

• Plenary Discussion of DO-315B FRAC disposition (0830-1700, including breaks and lunch).

Thursday, 23 September

• Plenary discussion (0830-1500, including breaks and lunch).

• Approve DO-315B draft.

• Administrative items (meeting schedule).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on July 21, 2010.
Francisco Estrada C.,
RTCA Advisory Committee.

[FR Doc. 2010-18472 Filed 7-27-10; 8:45 am]

BILLING CODE 4910-13-P